FEDERAL COMMUNICATIONS COMMISSION

[DA 16-561]

Consumer Advisory Committee

AGENCY: Federal Communications Commission.

ACTION: Notice.

SUMMARY: The Commission announces the next meeting date, time, and agenda of its Consumer Advisory Committee (hereinafter the Committee). The mission of the Committee is to make recommendations to the Commission regarding consumer issues within the jurisdiction of the Commission and to facilitate the participation of consumers (including underserved populations, such as Native Americans, persons living in rural areas, older persons, people with disabilities, and persons for whom English is not their primary language) in proceedings before the Commission.

DATES: June 10, 2016, 9:00 a.m. to 4:00 p.m.

ADDRESSES: Federal Communications Commission, Commission Meeting Room TW-C305, 445 12th Street SW., Washington, DC 20554.

FOR FURTHER INFORMATION CONTACT: Scott Marshall, Consumer and Governmental Affairs Bureau, (202) 418-2809 (voice or Relay), or email Scott.Marshall@fcc.gov.

SUPPLEMENTARY INFORMATION: This is a summary of the Commission's document DA 16-561, released May 19, 2016, announcing the Agenda, Date, and Time of the Committee's Next Meeting.

Meeting Agenda

At its June 10, 2016 meeting, the Committee is expected to consider the following recommendations:

• An IP-transition recommendation addressing criteria for determining adequate substitute services, consumer education related to the impact of replacing of legacy copper network services with services based on newer technology, and minimizing disruption in the provision of 911 services;

• An IP-transition recommendation regarding battery backup community outreach and education during the IP-Transition;

• A recommendation regarding robocalling and federal debt collection; and,

• A recommendation regarding set top boxes and alternative navigation technology or devices used by consumers.

The Committee will also receive briefings from commission staff on issues of interest to the Committee. A limited amount of time will be available for comments from the public. If time permits, the public may ask questions of presenters via the email address livequestions@fcc.gov or via Twitter using the hashtag #fcclive. The public may also follow the meeting on Twitter @fcc or via the Commission's Facebook page at www.facebook.com/fcc. Alternatively, members of the public may send written comments to: Scott Marshall, Designated Federal Officer of the Committee at the address provided below.

The meeting is open to the public and the site is fully accessible to people using wheelchairs or other mobility aids. Sign language interpreters, open captioning, assistive listening devices, and Braille copies of the agenda and committee roster will be provided on site. Meetings of the Committee are also broadcast live with open captioning over the Internet from the FCC Live Web page at www.fcc.gov/live/. Other reasonable accommodations for people with disabilities are available upon request. The request should include a detailed description of the accommodation needed and contact information. Please provide as much advance notice as possible; last minute requests will be accepted, but may not be possible to fill. To request an accommodation, send an email to fcc504@fcc.gov or call the Consumer and Governmental Affairs Bureau at 202-418-0530 (voice), 202-418-0432 (TTY).

Federal Communications Commission.
D'Wana Terry,
Associate Bureau Chief, Consumer and Governmental Affairs Bureau.

[FR Doc. 2016-12309 Filed 5-24-16; 8:45 am]

BILLING CODE 6712-01-P